DEPARTMENT OF HOMELAND SECURITY

United States Citizenship and Immigration Services

Privacy Act of 1974; Systems of Records; DHS-2005-0048

AGENCY: Department of Homeland Security, United States Citizenship and Immigration Services, USCIS.

ACTION: Removal of a Privacy Act system of records.

SUMMARY: In accordance with the Privacy Act of 1974, the Department of Homeland Security is giving notice that it proposes to remove one system of records from its inventory of record systems because the functions of the system have been absorbed into another system of records.

EFFECTIVE DATES: July 15, 2005.

FOR FURTHER INFORMATION CONTACT: Nuala O'Connor Kelly, DHS Chief Privacy Officer, Department of Homeland Security, Washington, DC 20528, by telephone (571) 227-3813 or facsimile (517) 227-4171.

SUPPLEMENTARY INFORMATION: Pursuant to the provisions of the Privacy Act of 1974, 5 U.S.C. 552a, and as part of its ongoing integration and management efforts, the Department of Homeland Security (DHS) is removing a system of records currently being maintained by United States Citizenship and Immigration Services (USCIS) and formerly maintained by the Immigration and Naturalization Service (INS) when it was an agency of the Department of Justice. This legacy record system is entitled “Alien Status Verification Index (ASVI), JUSTICE/INS-009.” ASVI was last published in the Federal Register on September 7, 2001 (66 FR 46815). The system became part of the DHS inventory of record systems upon creation of DHS and the merger with INS.

ASVI was originally established in order to verify an alien's immigrant, nonimmigrant, and/or eligibility status for any purpose consistent with DHS/USCIS statutory responsibilities. The record system became obsolete in July 2004, because a new modernized system with the same capabilities as ASVI was built and added to another USCIS system of records, the Verification Information System (VIS), JUSTICE/INS-036 (last published in the Federal Register on October 17, 2002 (67 FR 64134)). All data from ASVI currently resides in VIS. Therefore, JUSTICE/INS-009, the “Alien Status Verification Index (ASVI)” has been superseded and the Department of Homeland Security is removing this system from its inventory of Privacy Act systems.

Dated: June 23, 2005.
Nuala O'Connor Kelly,
Chief Privacy Officer, Department of Homeland Security.

[FR Doc. 05-13964 Filed 7-14-05; 8:45 am]

BILLING CODE 4410-10-P